ENVIRONMENTAL PROTECTION AGENCY

[FRL-6941-5]

Agency Information Collection Activities: Proposed Collection; Comment Request

AGENCY: Environmental Protection Agency (EPA).

ACTION: Notice.

SUMMARY: In compliance with the Paperwork Reduction Act (44 U.S.C. 3501 et seq.), this document announces that EPA is planning to submit the following thirteen continuing Information Collection Requests (ICR) to the Office of Management and Budget (OMB). Before submitting the ICRs to OMB for review and approval, EPA is soliciting comments on specific aspects of the information collections as described at the beginning of the Supplementary Information.

DATES: Comments must be submitted on or before April 2, 2001.

ADDRESSES: U.S. EPA, 1200 Pennsylvania Avenue, Mail Code 2223A, Washington, DC 20460. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the prior approved collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In the absence of such information collection requirements, enforcement personnel would be unable to determine whether the standards are being met on a continuous basis, as required by the Clean Air Act. Consequently, these information collection requirements are mandatory, and the records required by New Source Performance Standards (NSPS) must be retained by the owner or operator for at least two years; records required by the National Emission Standards for Hazardous Air Pollutants (NESHAP) must be retained by the owner or operator for at least five years; and records required by the NESHAP Maximum Achievable Control Technology standards (NESHAP-MACT) must be retained by the owner or operator for at least five years. In general, the required information consists of emissions data and other information deemed not to be private. However, any information submitted to the Agency for which a claim of confidentiality is made will be safeguarded according to the Agency policies set forth in Title 40, chapter 1, part 2, subpart B—Confidentiality of Business Information (See 40 CFR 2; 41 FR 36902, September 1, 1976; amended by 43 FR 39999, September 8, 1978; 43 FR 42251, September 28, 1978; 44 FR 17674, March 21979).

A. List of ICRs Planned To be Submitted

In compliance with the Paperwork Reduction Act (44 U.S.C. 3501 et seq.), this notice announces that EPA is planning to submit the following thirteen Information Collection Requests (ICR) to the Office of Management and Budget (OMB):

(1) NSPS Subpart F: New Source Performance Standards (NSPS) for Portland Cement Plants; EPA ICR Number 1051; OMB Number 2060-0025; expiration date September 30, 2001.

(2) NSPS Subpart UU: Asphalt Processing and Roofing; EPA ICR Number 0661; OMB Number 2060-0002; expiration date September 30, 2001.

(3) NSPS Subpart BBB: Rubber Tire Manufacturing; EPA ICR Number 1158; OMB Number 2060-0158; expiration date September 30, 2001.

(4) NESHAP Subpart C: National Emission Standards for Hazardous Air Pollutants (NESHAP) for Beryllium; EPA ICR Number 0193; OMB Number 2060-0092; expiration date September 30, 2001.

(5) NESHAP Subpart F: Vinyl Chloride; EPA ICR Number 0186; OMB Number 2060-0071; expiration date September 30, 2001.

(6) NESHAP Subparts F, G, H and I: The Hazardous Organic NESHAP (HON); EPA ICR Number 1414; OMB Number 2060-0282; expiration date February 28, 2001.

(7) NESHAP Subpart V: Equipment Leaks (Fugitive Emission Sources); EPA ICR Number 1153; OMB Number 2060-0068; expiration date August 31, 2001.

(8) NESHAP-MACT Subpart S: Pulp and Paper Production Source Category—Process Operations; EPA ICR Number 1657; OMB Number 2060-0387; expiration date September 30, 2001.

(9) NESHAP-MACT Subpart W: Epoxy Resins Production and Non-Nylon Polyamide Resin Production; EPA ICR Number 1681; OMB Number 2060-0290; expiration date September 30, 2001.

(10) NESHAP-MACT Subpart X: Secondary Lead Smelting; EPA ICR Number 1686; OMB Number 2060-0296; expiration date September 30, 2001.

(11) NESHAP-MACT Subpart XXX: Ferroalloys; EPA ICR Number 1831; OMB Number 2060-0391; expiration date September 30, 2001.

(12) Source Compliance and State Action Reporting: EPA ICR Number 0107; OMB Number 2060-0096; expiration date December 31, 2001.

(13) Consolidated Federal Air Rule for the Synthetic Organic Chemical Industry: EPA ICR Number 1854; no assigned OMB Number.

B. Contact Individuals for ICRs

(1) NSPS Subpart F: Portland Cement Plants; Franklin Smith of the Data Systems and Information Management Branch at (301) 459-7092 or via E-mail to Smith.Franklin@epa.gov; EPA ICR Number 1051; OMB Number 2060-0025; expiration date September 30, 2001.

(2) NSPS Subpart UU: Asphalt Processing and Roofing; Franklin Smith of the Data Systems and Information Management Branch at (301) 459-7092 or via E-mail at Smith.Franklin@epa.gov; EPA ICR Number 0661; OMB Number 2060-0002; expiration date September 30, 2001.

(3) NSPS Subpart BBB: Rubber Tire Manufacturing; Maria Malave of the Air, Hazardous Waste, and Toxics Branch at (202) 564-7027 or via E-mail at Malave.Maria@epa.gov; EPA ICR Number 1158; OMB Number 2060-0156; expiration date September 30, 2001.

(4) NESHAP Subpart C: Beryllium; Debbie Thomas of the Planning and Analysis Branch at (202) 564-5041 or via E-mail at Thomas.Deborah@epa.gov; EPA ICR Number 0193; OMB Number 2060-0092; expiration date September 30, 2001.

(5) NESHAP Subpart F: Vinyl Chloride; Scott Throwe of the Air, Hazardous Waste, and Toxics Branch at (202) 564-7013 or via E-mail at Throwe.Scott@epa.gov; EPA ICR Number 0186; OMB Number 2060-0071; expiration date September 30, 2001.

(6) NESHAP Subparts F, G, H and I: the Hazardous Organic NESHAP (HON); Marcia Mia of the Air, Hazardous Waste, and Toxics Branch at (202) 564-7042 or via E-mail at Mia.Marcia@epa.gov; EPA ICR Number 1414; OMB Number 2060-0282; expiration date February 28, 2001.

(7) NESHAP Subpart V: Equipment Leaks (Fugitive Emission Sources); Rafael Sánchez of the Compliance Monitoring and Water Branch at (202) 564-7028 or via E-mail to Sanchez.Rafael@epa.gov; EPA ICR Number 1153; OMB Number 2060-0068, expiration date August 31, 2001.

(8) NESHAP-MACT Subpart S: Pulp and Paper Production Source Category—Process Operations; Scott Throwe of the Air, Hazardous Waste, and Toxics Branch at (202) 564-7013 or via E-mail at Throwe.Scott@epa.gov; EPA ICR Number 1657; OMB Number 2060-0387; expiration date September 30, 2001.

(9) NESHAP-MACT Subpart W: Epoxy Resins Production and Non-Nylon Polyamide Resin Production; Sally Sasnett of the Sector Analysis and Implementation Branch at (202) 564-7074 or via E-mail at Sasnett.Sally@epa.gov; EPA ICR Number 1681; OMB Number 2060-0290; expiration date September 30, 2001.

(10) NESHAP-MACT Subpart X: Secondary Lead Smelting; Debbie Thomas of the Planning and Analysis Branch at (202) 564-5041 or via E-mail at Thomas.Deborah@epa.gov; EPA ICR Number 1686; OMB Number 2060-0296; expiration date September 30, 2001.

(11) NESHAP-MACT Subpart XXX: Ferroalloys; Maria Malave of the Air, Hazardous Waste, and Toxics Branch at (202) 564-7027 or via E-mail at Malave.Maria@epa.gov; EPA ICR Number 1831; OMB Number 2060-0391; expiration date September 30, 2001.

(12) Source Compliance and State Action Reporting: Mark Antell of the Data Systems and Information Management Branch at (202) 564-5003 or via E-mail at Antell.Mark@epa.gov; EPA ICR Number 0107; OMB Number 2060-0096; expiration date December 31, 2001.

(13) Consolidated Federal Air Rule for the Synthetic Organic Chemical Industry: Marcia Mia of the Air, Hazardous Waste, and Toxics Branch at (202) 564-7042 or via E-mail at Mia.Marcia@epa.gov; EPA ICR Number 1854; no assigned OMB Number.

C. Individual ICRs

(1) NSPS Subpart F: New Source Performance Standards (NSPS) for Portland Cement Plants; EPA ICR Number 1051; OMB Number 2060-0025; expiration date September 30, 2001.

Affected Entities: Entities potentially affected by this action are those which are subject to New Source Performance Standards (NSPS) Subpart F, owners and operators of portland cement plants with the following facilities: kilns, clinker coolers, raw mill systems, raw mill dryers, raw material storage, clinker storage, finished product storage, conveyor transfer points, bagging and bulk loading and unloading facilities.

Abstract: The Agency has judged that PM emissions from portland cement plants cause or contribute to air pollution that may reasonably be anticipated to endanger public health or welfare. Owners/operators of portland cement plants must notify EPA of construction, modification, startups, shut downs, date and results of initial performance test and excess emissions.

Burden Statement: In the previously approved ICR, the average annual burden to the industry to meet the recordkeeping and reporting requirements was estimated at 7,968 person-hours for the three years following the approval of that ICR. Two hundred seventy-nine of these person hours were for reporting only. The total annualized cost burden was estimated at $941,720. This is based on an estimated 113 respondents and a frequency of response of 2 times per year.

(2) NSPS Subpart UU: Asphalt Processing and Roofing; EPA ICR Number 0661; OMB Number 2060-0002; expiration date September 30, 2001.

Affected Entities: Entities potentially affected by this action are those which are subject to New Source Performance Standards (NSPS) Subpart UU, owners and operators of saturators and asphalt storage facilities at asphalt roofing plants, and each asphalt storage tank and each blowing still at asphalt processing plants, petroleum refineries, and asphalt roofing plants.

Abstract: The Agency has judged that PM emissions from asphalt processing and asphalt roof manufacture cause or contribute to air pollution that may reasonably be anticipated to endanger public health or welfare. Owners/operators of these regulated facilities must notify EPA of construction, modification, startups, shut downs, date and results of initial performance test and excess emissions.

Burden Statement: In the previously approved ICR, the average annual burden to the industry to meet the recordkeeping and reporting requirements was estimated at 15,629 person-hours for the three years following approval of that ICR. Three hundred of these person hours were for reporting only. The total annualized cost burden was estimated at $3,210,000. This is based on an estimated 86 respondents and a frequency of response of once per year.

(3) NSPS Subpart BBB: Rubber Tire Manufacturing; EPA ICR Number 1158; OMB Number 2060-0158; expiration date September 30, 2001.

Affected Entities: Entities potentially affected by this action are those which are subject to New Source Performance Standards (NSPS) Subpart BBB, include the following facilities in rubber tire manufacturing plants: each undertread cementing operations, sidewall cementing operations, each tread end cementing operation, each bead cementing operation, each green tire spraying operation, each Michelin-A operation, each Michelin-B operation, and each Michelin-C-automatic operation.

Abstract: The Agency has judged that VOCs emissions from rubber tire manufacturing cause or contribute to air pollution that may reasonably be anticipated to endanger public health or welfare. Owners/operators of rubber tire manufacturing plants must notify EPA of construction, modification, startups, shut downs, date and results of initial performance test and excess emissions.

Burden Statement: In the previously approved ICR, the average annual burden to the industry to meet the recordkeeping and reporting requirements was estimated at 18,651 person-hours for the three years following approval of that ICR. Ten thousand ninety-five of these person hours were for reporting only. The total annualized cost burden was estimated at $1,152,730. This is based on an estimated 31 respondents and a frequency of response of twice per year.

(4) NESHAP Subpart C: National Emission Standards for Hazardous Air Pollutants (NESHAP) for Beryllium; EPA ICR Number 0193; OMB Number 2060-0092; expiration date September 30, 2001.

Affected Entities: Entities potentially affected by this action are those which are subject to the NESHAP Subpart C, owners and operators of extraction plants, foundries, incinerators, propellent plants, and machine shops which process beryllium ore, beryllium, beryllium oxide, beryllium alloys, or beryllium-containing waste.

Abstract: The Agency has judged that HAP emissions from sources associated with the production of Beryllium and many of its compounds cause or contribute to air pollution that may reasonably be anticipated to endanger public health or welfare. Owners/operators of affected beryllium facilities must notify EPA of construction, modification, startups, shutdowns, date and results of the initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 2,232 person-hours for the three years following approval of that ICR. Two hundred forty of these person hours were for reporting only. The total annualized cost burden was estimated at $115,352. This is based on an estimated 33 respondents and frequency of response of twelve times per year.

(5) NESHAP Subpart F: Vinyl Chloride; EPA ICR Number 0186; OMB Number 2060-0071; expiration date September 30, 2001.

Affected Entities: Entities potentially affected by this action are those which are subject to National Emission Standards for Hazardous Air Pollutants (NESHAP) Subpart F, owners and operators of sources associated with the production of vinyl chloride, including but not limited to exhaust gases and oxychlorination vents at ethylene dichloride (EDC) plants; exhaust gases at vinyl chloride monomer (VCM) plants; and exhaust gases, reactors opening losses, manual vent valves and stripping residuals at polyvinyl chloride (PCV) plants. The standards also apply to relief valves and fugitive emission sources at all three types of plants.

Abstract: The Agency has judged that HAP emissions from sources associated with the production of vinyl chloride cause or contribute to air pollution that may reasonably be anticipated to endanger public health or welfare. Owners/operators of affected vinyl chloride facilities must notify EPA of construction, modification, startups, shutdowns, date and results of initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 16,159 person-hours for the three years following approval of that ICR. Three hundred seventy-two of these person hours were for reporting only. The total annualized cost burden was estimated at $579,947. This is based on an estimated 44 respondents and a frequency of response of two times per year.

(6) NESHAP Subparts F, G, H and I: the Hazardous Organic NESHAP (HON); EPA ICR Number 1414; OMB Number 2060-0282; expiration date February 28, 2001.

Affected Entities: Entities potentially affected by this action are those which are subject to the HON with the exceptions listed in 40 CFR 63.100(f). Respondents are owners or operators of processes in SOCMI industries, styrene-butadiene rubber production, polybutadiene production, chloride production, pesticide production, chlorinated hydrocarbon use in production of chemicals, pharmaceutical production, and miscellaneous butadiene use.

Abstract: The Agency has judged that hazardous air pollutant (HAP) emissions in the synthetic organic chemical industry and other negotiated industries cause or contribute to air pollution that may reasonably be anticipated to endanger public health or welfare.

Generally, respondents are required by law to submit one time reports of start of construction, anticipated and actual start-up dates, and physical or operational changes to existing facilities. In addition, Subpart G requires respondents to submit four types of reports: (1) Initial Notification, (2) Notification of Compliance Status, (3) Periodic Reports, and (4) several event triggered reports. The Initial Notification report identifies sources subject to the rule and the provisions which apply to these sources. The Notification of Compliance Status is submitted to provide the information necessary to demonstrate that compliance has been achieved. The Periodic Reports provide the parameter monitoring data for the control devices, results of any performance tests conducted during the period, and information on instances where inspections revealed problems. Subparts H and I require the source to submit an initial report detailing the equipment and process units subject to, and schedule for implementing each phase of, the standard. Owners and operators also have to submit semiannual reports of the monitoring results from the leak detection and repair program in the equipment leak standard. All records are to be maintained by the source for a period of at least 5 years. The Initial Notification is due 180 days before commencement of construction or reconstruction for new sources.

The Notification of Compliance Status would be submitted 150 days after the source's compliance date for both new and existing sources.

Generally, periodic reports would be submitted semiannually. However, if monitoring results show that the parameter values for an emission point are outside the established range for more than 1 percent of the operating time in a reporting period, or the monitoring system is out of service for more than 5 percent of the time, the regulatory authority may request that the owner or operator submit quarterly reports for that emission point. After 1 year, semiannual reporting can be resumed, unless the regulatory authority requests continuation of quarterly reports.

Other reports would be submitted as required by the provisions for each kind of emission point. The due date for these kinds of reports is tied to the event that precipitated the report itself. Examples of these special reports include requests for extensions of repair, notification of scheduled inspections for storage vessel and wastewater management units, process changes, and startup, shutdown, and malfunctions.

Subparts H and I, the equipment leak standards, would require the submittal of an initial report and semiannual reports of leak detection and repair experiences and any changes to the processes, monitoring frequency and/or initiation of a quality improvement program. For new sources, the initial report shall be submitted with the application for construction, as under Subpart G. Every 6 months after the initial report, a report must be submitted that summarizes the monitoring results from the leak detection and repair program and provides a notification of initiation of monthly monitoring or implementation of a quality improvement program, if applicable.

Burden Statement: In the previously approved ICR, the average annual burden to industry to meet the recordkeeping and reporting requirements was estimated at 1,727,724 person-hours for the three years following approval of that ICR. Five hundred twenty-three of these person hours were for reporting only. The total annualized cost burden was estimated at $98,460,900. This was based on 308 respondents.

(7) NESHAP Subpart V: Equipment Leaks (Fugitive Emission Sources); EPA ICR Number 1153; OMB Number 2060-0068; expiration date August 31, 2001.

Affected Entities: Entities potentially affected by this action are those which are subject to NESHAP Subpart V, owners or operators of process units operating in volatile hazardous air pollutant (VHAP) service (those containing or contacting fluids (liquid or gas) consisting by weight of at least 10 percent VHAP).

Abstract: The Agency has judged that VHAP emissions from sources associated with the operation of equipment in VHAP service: pumps, compressors, pressure relief devices, sampling connection systems, open-ended valves or lines, valves, flanges and other connectors, product accumulator vessels, and control devices or systems that contain or contact fluids (liquid or gas) consisting by weight of at least 10 percent VHAP, cause or contribute to air pollution that may reasonably be anticipated to endanger public health or welfare. Owners or operators of the affected process units must notify EPA of construction, modification, startup, application of waiver of testing (if desired by source); application for equivalency (if desired by source), and an initial report. Owners or operators are also required to submit semiannual reports of the number of valves, pumps, and compressors for which leaks were detected, and explanations for any leak repair delays. Affected process units must be monitored to detect leaks by Method 21 of Appendix A of 40 CFR Part 60. The recordkeeping requirements of § 61.246 apply to leaks detected from pumps, compressors, valves, flanges, and pressure relief devices. Pumps are checked visually each calendar week, and pertinent information on each unit is recorded in a log, required in § 61.246(e). Compressor sensors are checked daily, and valves are monitored monthly. Recordkeeping requirements for these units are in effect only when a leak is detected (§§ 61.242-3, 242-7). Action taken to repair leaks must also be recorded and kept on file in a readily accessible location. The standards also require semiannual reporting of fugitive emissions and leak detection.

Burden Statement: In the previously approved ICR, the average annual burden to industry to meet the recordkeeping and reporting requirements was estimated at 23,539 person-hours for the three years following approval of that ICR. Thirty of these person hours were for reporting only. The total annualized cost burden was estimated at $1,046,073. This is based on an estimated 200 respondents and a frequency of response of two times per year.

(8) NESHAP-MACT Subpart S: Pulp and Paper Production Source Category—Process Operations; EPA ICR Number 1657; OMB Number 2060-0387; expiration date September 30, 2001.

Affected Entities: Entities potentially affected by this action are those which are subject to National Emission Standards for Hazardous Air Pollutants (NESHAP) Subpart S, owners and operators of sources associated with the production of wood pulp, including but not limited to kraft, soda, sulfite, semi-chemical, mechanical, non-wood pulping, secondary fiber, or any combination of these types of pulping processes. Affected processes at the wood pulping sources include pulping, bleaching, and wastewater handling.

Abstract: The Agency has judged that HAP emissions from pulping, bleaching, and wastewater treatment processes cause or contribute to air pollution that may reasonably be anticipated to endanger public health or welfare. Owners/operators of affected pulp and paper process operations must notify EPA of construction, modification, startups, shutdowns, date and results of initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 53,924 person-hours for the three years following approval of that ICR. Two thousand seven hundred seventy-one of these person hours were for reporting only. The total annualized cost burden was estimated at $6,955,262. This is based on an estimated 162 respondents and a frequency of response of twice per year.

(9) NESHAP-MACT Subpart W: Epoxy Resins Production and Non-Nylon Polyamide Resin Production; EPA ICR Number 1681; OMB Number 2060-0290; expiration date September 30, 2001.

Affected Entities: Entities potentially affected by this action are those which manufacture polymers and resins from epichlorohydrin.

Abstract: The Agency has judged that HAP emissions from sources associated with epoxy and non-nylon resin production cause or contribute to air pollution that may reasonably be anticipated to endanger public health or welfare. Owners/operators of affected polymers and resins production process operations must notify EPA of construction, modification, startups, shutdowns, date and results of initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 4,525 person-hours for the three years following approval of that ICR. One hundred twenty-four of these person hours were for reporting only. The total annualized cost burden was estimated at $160,226. This is based on an estimated 13 respondents and a frequency of response of twice per year.

(10) NESHAP-MACT Subpart X: Secondary Lead Smelting; EPA ICR Number 1686; OMB Number 2060-0296; expiration date September 30, 2001.

Affected Entities: Entities potentially affected by this action are those which are subject to NESHAP-MACT Subpart X, owners or operators of secondary lead smelters that operate furnaces to reduce scrap lead metal and lead compounds to elemental lead. The rule applies to secondary lead smelters that use blast, reverbretory, rotary, or electric smelting furnaces to recover lead metal from scrap lead, primarily from used lead-acid automotive-type batteries.

Abstract: The Administrator has judged that HAP emissions from sources associated with secondary lead smelters cause or contribute to air pollution that may reasonably be anticipated to endanger public health or welfare. Owners/operators of affected secondary lead smelters must notify EPA of construction, modification, startups, shutdowns, date and results of initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 16,033 person-hours for the three years following approval of that ICR. Three hundred sixty-eight of these person hours were for reporting only. The total annualized cost burden was estimated at $720,000. This was based on an estimated 23 respondents and a frequency of response of twice per year.

(11) NESHAP-MACT Subpart XXX: Ferroalloys; EPA ICR Number 1831; OMB Number 2060-0391; expiration date September 30, 2001.

Affected Entities: Entities potentially affected by this action are those which are subject to NESHAP Subpart XXX, owners and operators of all new and existing ferromanganese and silicomanganese production facilities that are major sources or are co-located at major sources.

Abstract: The Agency has judged that HAP emissions from ferroalloys production facilities, including metal HAP compounds and organic HAP compounds cause or contribute significantly to air pollution that may be reasonably anticipated to endanger public health or welfare. Owners/operators of affected ferroalloy production operations must notify EPA of construction, modification, startups, shutdowns, date and results of initial performance test and provide semiannual reports of excess emissions. They must also develop startup, shutdown, malfunction plans and develop a quality control plan for their continuous monitoring system. Affected facilities also must provide notification of compliance status and report quarterly monitoring exceedances.

Burden Statement: In the previously approved ICR, the average annual burden to the industry to meet the recordkeeping and reporting requirements was estimated at 1,684 person-hours for the three years following approval of that ICR. Ninety-six of these person hours were for reporting only. The total annualized cost burden was estimated at $46,875. This is based on an estimated 2 respondents and a frequency of response of two per year. There is currently only one facility subject to this subpart.

(12) Source Compliance and State Action Reporting; EPA ICR Number 0107; OMB Number 2060-0096; expiration date December 31, 2001.

Affected Entities: Entities potentially affected by this action are those State, District, Commonwealth and territorial governments that make air compliance information available to EPA on a quarterly basis via input to the AIRS Facility Subsystem (AFS) of the Aerometric Information Retrieval System (AIRS).

Abstract: Source Compliance and State Action Reporting is an activity whereby State, District, Commonwealth and territorial governments make air compliance information available to EPA on a quarterly basis via input to the AIRS Facility Subsystem (AFS) of the Aerometric Information Retrieval System (AIRS). The information provided to EPA includes compliance determinations and compliance activities. EPA uses this information to assess progress toward meeting emission requirements developed under the authority of the Clean Air Act to protect and maintain the atmospheric environment and the public health. The ten EPA Regional Offices, and most of the State agencies, access the data in AIRS to assist them in the management of their air pollution control programs. This collection activity is authorized and required in the following subsections of regulations implementing the Clean Air Act under “Subpart Q—Reports” in 40 CFR Part 51: Sections 51.323(c)(1), 51.323(c)(2), 51.324(a) and (b), and 51.327.

In addition to renewal, this ICR will also be updated as necessary to take into account the revisions that are currently being considered for the Agency's Clean Air Act Stationary Source Compliance Monitoring Strategy (CMS). The goal of CMS is to provide national consistency in developing stationary source air compliance monitoring programs, while at the same time providing States/locals with flexibility to address local air pollution and compliance concerns. Based upon the draft CMS revision, there will be additional collection activity associated with facility identification; compliance evaluations; investigations; annual inspection plans; and the results of stack tests and Title V self-certifications.

Burden Statement: In the previously approved ICR, the average annual burden to covered entities to meet the recordkeeping and reporting requirements was estimated at 59,364 person-hours for the three years following approval of that ICR. The total annualized cost burden was estimated as $1,886,407. This is based on an estimated 52 respondents and a frequency of at least four times per year. The average annual burden for reporting per source per response for reporting activities is dependent upon the size of the State. A small State, having 400 major sources or less, spends an average 22 hours per quarter; a medium size State, having between 400 and 900 major sources, spends an average 195 hours per quarter; and a large State, having more than 900 major sources, spends an average 344 hours per quarter.

(13) Consolidated Federal Air Rule for the Synthetic Organic Chemical Industry: EPA ICR Number 1854; no assigned OMB Number.

Affected Entities: Entities potentially affected by this action are owners or operators of plant sites subject to an identified referencing Subpart. Referencing Subparts include:

• Standards of Performance for Storage Vessels for Petroleum Liquids for Which Construction, Reconstruction, or Modification Commenced After May 18, 1978, and Prior to July 23, 1984 (NSPS Subpart Ka); EPA ICR Number 1050; OMB Number 2060-0121.

• Standards of Performance for Volatile Organic Liquid Storage Vessels (Including Petroleum Liquid Storage Vessels) for Which Construction, Reconstruction, or Modification Commenced after July 23, 1984 (NSPS Subpart Kb); EPA ICR Number 1332; OMB Number 2060-0074.

• Standards of Performance for Equipment Leaks of VOC in the Synthetic Organic Chemicals Manufacturing Industry (NSPS Subpart VV); EPA ICR Number 0662; OMB Number 2060-0012.

• Standards of Performance for Volatile Organic Compound Emissions from the Polymer Manufacturing Industry (NSPS Subpart DDD); EPA ICR Number 1150; OMB Number 2060-0145.

• Standards of Performance for Volatile Organic Compound (VOC) Emissions From the Synthetic Organic Chemical Manufacturing Industry (SOCMI) Air Oxidation Unit Processes (NSPS Subpart III); EPA ICR Number 0998; OMB Number 2060-0197.

• Standards of Performance for Volatile Organic Compound (VOC) Emissions from Synthetic Organic Chemical Manufacturing Industry Distillation Operations (NSPS Subpart NNN); EPA ICR Number 0998; OMB Number 2060-0197.

• Standards of Performance for Volatile Organic Compound (VOC) Emissions from Synthetic Organic Chemical Manufacturing Industry (SOCMI) Reactor Processes (NSPS Subpart RRR); EPA ICR Number 1178; OMB Number 2060-0269.

• National Emission Standard for Equipment Leaks (Fugitive Emission Sources) (NESHAP Subpart V); EPA ICR Number 1153; OMB Number 2060-0068.

• National Emission Standard for Benzene Emissions from Benzene Storage Vessels (NESHAP Subpart Y); EPA ICR Number 1080; OMB Number 2060-0185.

• National Emission Standard for Benzene Emissions from Benzene Transfer Operations (NESHAP Subpart BB); EPA ICR Number 1154; OMB Number 2060-0182.

• National Emission Standards for Organic Hazardous Air Pollutants from Synthetic Organic Chemical Manufacturing Industry for Process Vents, Storage Vessels, Transfer Operations, and Wastewater (NESHAP/MACT Subpart G, the HON); EPA ICR Number 1414; OMB Number 2060-0282.

• National Emission Standards for Organic Hazardous Air Pollutants for Equipment Leaks (NESHAP/MACT Subpart H, the HON); EPA ICR Number 1414; OMB Number 2060-0282.

Abstract: This ICR contains a consolidation of recordkeeping and reporting requirements that are mandatory for compliance with the applicable Subparts listed above of 40 CFR part 60, 61, 63 & 65. Under an initiative issued on March 16, 1995 aimed at reinventing environmental regulation, President Clinton called on EPA to consolidate all federal air rules for an industry sector into a single rule, thereby enhancing understanding and eliminating duplicative or unnecessary compliance activities. The outcome of this for the synthetic organic chemical industry (SOCMI) was the Consolidated Federal Air Rule, or CAR. The CAR is an optional alternative compliance approach for plant sites that must comply with existing subparts in the Code of Federal Regulations (CFR). The CAR is a consolidation of major portions of 13 different New Source Performance Standards (NSPS) and National Emission Standards for Hazardous Air Pollutants (NESHAP) pertaining to storage vessels, process vents, transfer racks, and equipment leaks as well as the general provisions for the three applicable parts (40 CFR parts 60, 61, and 63). These subparts from 40 CFR parts 60, 61, and 63 are referred to as referencing subparts because they have been amended to refer to the CAR as a compliance alternative. The referencing subparts include 40 CFR part 60 subpart Ka, 40 CFR part 60 subpart Kb, 40 CFR part 60 subpart VV, 40 CFR part 60 subpart DDD, 40 CFR part 60 subpart III, 40 CFR part 60 subpart NNN, 40 CFR part 60 subpart RRR, 40 CFR part 61 subpart V, 40 CFR part 61 subpart Y, 40 CFR part 61 subpart BB, 40 CFR part 63 subpart F, 40 CFR part 63 subpart G, and 40 CFR part 63 subpart H.

Compliance with the CAR is a voluntary alternative; sources may continue to comply with existing applicable rules or may choose to comply with the consolidated rule. The CAR, therefore, does not constitute additional requirements per se. Rather, the recordkeeping and reporting activities in the CAR would be carried out in place of existing requirements. Because the overall intent and effect of the CAR are to reduce the recordkeeping and reporting burden for plant sites, and because the CAR is an optional compliance alternative, there is effectively no additional burden incurred pursuant to the CAR. In an effort to account for the burden hours which may move from a referencing subpart in the CAR, it is the Agency's intent to consolidate the underlying ICR's for each of the referencing subparts into one ICR. This will allow the Agency to account for those sources which may opt to comply with the CAR without having to amend the ICR's for the referencing subparts upon each CAR renewal or to amend the CAR ICR upon each referencing Subpart renewal.

Burden Statement: The Agency computed the burden for each of the recordkeeping and reporting requirements applicable to the industry based on the totals of the currently approved ICRs. A consolidation of the referencing Subparts and the CAR results in a total annual burden of 1,750,398 person-hours at a cost of $111,707,233. The estimate was based on the assumption that there would be 324 SOCMI facilities (from the most recent HON ICR renewal) and that 25 percent of these facilities, or 81, would elect to comply with the CAR.

Dated: January 26, 2001.
Michael M. Stahl,
Director Office of Compliance.

[FR Doc. 01-2771 Filed 1-31-01; 8:45 am]

BILLING CODE 6560-50-P